NATIONAL AERONAUTICS AND SPACE ADMINISTRATION

[Notice: (22 -047)]

NASA Advisor Council, Human Exploration and Operations Committee Meeting

AGENCY: National Aeronautics and Space Administration.

ACTION: Notice of meeting.

SUMMARY: In accordance with the Federal Advisory Committee Act, Public Law 92-463, as amended, the National Aeronautics and Space Administration (NASA) announces a meeting of the Human Exploration Committee of the NASA Advisory Council (NAC). This Committees report to the NAC.

DATES: Wednesday, July 20, 2022, 1:00 p.m. to 3:30 p.m., Eastern Time.

ADDRESSES: Due to current COVID-19 issues affecting NASA Headquarters occupancy, public attendance will be virtual only, see dial-in and WebEx information below under “Supplementary Information.”

FOR FURTHER INFORMATION CONTACT: Dr. Bette Siegel, Designated Federal Officer, Human Exploration Committee, NASA Headquarters, Washington, DC 20546, via email at bette.siegel@nasa.gov or 202-358-2245.

SUPPLEMENTARY INFORMATION: As noted above, this meeting will be open to the public via Webex and telephonically. Webex connectivity information is provided below. For audio, when you join the Webex event, you may use your computer or provide your phone number to receive a call back, otherwise, call the U.S. toll conference number listed. On Wednesday, July 20 2022, the event address for attendees is: https://nasaenterprise.webex.com/nasaenterprise/j.php?MTID=m823cdaefeae3b42f2c26c140b6ecd593.

The event number is 2762 523 0299 and the event password is axPkpwJ2*36 (29757952 from phones). If needed, the U.S. toll conference number is+1-929-251-9612 and 1-415-527-5035 and access code is 2762 523 0299.

The agenda for the meeting includes the following topics:

Exploration Systems Development Mission Directorate and Space Operations Mission Directorate program discussion and recommendations.

It is imperative that this meeting be held on this day to accommodate the scheduling priorities of the key participants.

Carol J. Hamilton,
Acting Advisory Committee Management Officer, National Aeronautics and Space Administration.

[FR Doc. 2022-14056 Filed 6-30-22; 8:45 am]

BILLING CODE 7510-13-P